DEPARTMENT OF DEFENSE

Office of the Secretary

Change in the Location of the Defense Finance and Accounting Service Board of Advisors

AGENCY: Department of Defense, Office of the Under Secretary of Defense (Comptroller).

ACTION: Notice of change in meeting location.

SUMMARY: This notice sets forth a change in the location of the first meeting of the Defense Finance and Accounting Service (DFAS) Board of Advisors. The Board was originally scheduled to meet at DFAS Headquarters, 1931 Jefferson Davis Highway, Arlington, VA; that location has been changed to the Crystal City Marriott, Salon D, Potomac Ballroom, 1999 Jefferson Davis Highway, Arlington, VA.

DATES: Tuesday, April 10, 2001.

ADDRESSES: Crystal City Marriott, Salon D, Potomac Ballroom, 1999 Jefferson Davis Highway, Arlington, VA 22202.

FOR FURTHER INFORMATION CONTACT: Ms. Codie Smith, Resource Management, DFAS, Crystal Mall 3 (Room 206) 1931 Jefferson Davis Highway, Arlington, VA 22240. Telephone (703) 607-1162. Public seating for this meeting is limited, and is available on a first-come first-served basis.

Dated: March 30, 2001.
L.M. Bynum,
Alternate OSD Federal Register Liaison Officer, Department of Defense.

[FR Doc. 01-8398 Filed 4-4-01; 8:45 am]

BILLING CODE 5001-10-M